DEPARTMENT OF AGRICULTURE

Forest Service

Bighorn National Forest; Wyoming; Invasive and Other Select Plant Management

AGENCY: Forest Service, USDA.

ACTION: Notice of intent to prepare an environmental impact statement.

SUMMARY: The Forest Service, USDA, will prepare an environmental impact statement (EIS) to disclose the effects of continued control of noxious, invasive, and select native plant species through the integration of manual, mechanical, biological, ground herbicide, and aerial herbicide control methods on the Bighorn National Forest (BNF). Effects analysis of these treatments will be projected over the next 10 to 20 years. The BNF is currently treating noxious weeds and invasive plants under the June 19, 1998 Decision Notice, Noxious Weed Management. There is a need to update this decision since it did not include consideration of aerial application of herbicides, the presence of new invasive plant populations, or herbicide treatments of select native plant species to achieve desired resource conditions.

DATES: Comments concerning the scope of the analysis must be received by July 20, 2020. The draft EIS is expected November 2020 and the final EIS is expected June 2021.

ADDRESSES: Send written comments to Forest Supervisor, Bighorn National Forest, 2013 Eastside Second Street, Sheridan, Wyoming 82801. Comments may also be sent via email to comments-bighorn@usda.gov, or via facsimile to 307-674-2668.

FOR FURTHER INFORMATION CONTACT: Christopher D. Jones, Project Coordinator, at the above address, by phone at 307-674-2627, or via email christopher.d.jones@usda.gov.

Individuals who use telecommunication devices for the deaf (TDD) may call the Federal Information Relay Service (FIRS) at 1-800-877-8339 between 8:00 a.m. and 8:00 p.m., Eastern Standard Time, Monday through Friday.

SUPPLEMENTARY INFORMATION:

Purpose and Need for Action

BNF ecosystems are increasingly threatened by invasive plants. These plants include several invasive annual grasses including cheatgrass (Bromus tectorum), medusahead (Taeniatherum caput-medusae), and ventenata (Ventenata dubia). Invasive species are threatening or dominating desired native plant communities, big game winter ranges, sage-grouse habitat, soil and watershed resources, recreation, domestic livestock forage availability, and aesthetic values on the BNF. A shift from desired native vegetation to invasive plants alters wildlife habitat, decreases wildlife and livestock forage, reduces species diversity, increases soil erosion due to a decrease in surface cover, alters the fire return interval, and promotes undesirable monocultures.

In addition, there are select native plant species, such as sagebrush and larkspur, in need of management to meet desired conditions for wildlife and livestock forage. This analysis will consider the use of various treatments to achieve desired conditions for sagebrush including a mix of early-, mid-, and late-structural stages.

The purpose of this project is to prevent and reduce the loss of native plant communities associated with the spread of invasive plant species, to meet desired conditions for select native plant species, and to reduce the impacts from invasive plants on other resources. This purpose would be achieved by addressing the following needs:

• To meet existing law, regulation and agency policy directing the Forest Service to treat non-native and invasive plants and update existing management direction to include new invasive plant species and new treatments.

• To make cooperative treatment and control of invasive plant species more consistent and effective across land ownership boundaries.

• To help meet or maintain desired resource conditions on the BNF. This includes:

○ Limiting the spread of invasive plant species into areas with little or no infestation and reducing fuel loading and the resulting fire hazard and/or risk;

○ achieving desired conditions for select native plant species (for example, sagebrush and larkspur), through the use of herbicides and the other actions;

○ using adaptive management in the treatment of invasive and select native plant species in order to meet desired conditions as existing resource and managerial conditions change over time; and

○ safely and effectively applying herbicides, in uniform applications, on the steeper slopes that characterize critical big game winter ranges.

Proposed Action

The Forest Service, through the application of a revised treatment strategy, proposes to continue to treat invasive and select native plant species on the BNF through a combination of control methods based on site-specific conditions and circumstances, EPA labels, USDA Animal and Plant Health Inspection Service (APHIS) direction, state statute requirements for herbicide application licensing, and resource protection measures to ensure that treatment methods are properly used. The proposed action would utilize a variety of tools, singularly or in combination, to implement an integrated vegetation management strategy. Proposed control methods include:

• Mechanical methods, such as hand-pulling, mowing or cutting;

• Revegetation, where competitive vegetation is seeded to reduce invasive species, possibly after other treatments;

• Grazing with livestock;

• Biological control using predators, parasites, and pathogens;

• Herbicide control using ground-based or aerial application methods;

• Prescribed fire (may be conducted in conjunction with herbicide application);

• Education programs to inform people of the effects of invasive plant infestations, methods of spread, and preventative management opportunities and practices; and

• Prevention by using practices that reduce invasive plant spread, including a weed-free forage and gravel program and washing vehicles to remove seeds and plant parts.

Potential treatment areas include, but are not limited to the following: (1) Any infestations near landownership boundaries, especially where the adjacent landowners are treating their lands; (2) crucial big game winter ranges and other species habitat areas; (3) fuels reduction project areas; (4) burned areas; (5) roads and trails; (6) power lines; (7) rights-of-ways; (8) gravel and rock quarries; (9) timber harvest areas; and (10) areas where invasive weeds already exist. It is anticipated that the Forest Service may receive requests from intermingled and adjacent landowners to be partners on projects that might be proposed to treat invasive and other plant populations that are found on multiple land ownerships that include National Forest System lands. Northeast Wyoming, specifically Sheridan, Johnson, and Campbell Counties, is the only known location in the northern Great Plains eco-region with medusahead and ventenata. The BNF would be unable to effectively perform its shared stewardship responsibilities if unable to aerially treat them.

The selection of control methods is not a choice of one tool over another, but rather a selection of a combination of tools that would be most effective on target species for a location.

The BNF would also utilize the proposed control methods listed above to manage select native plant species, including sagebrush and larkspur, in order to achieve desired ecosystem and habitat conditions. For sagebrush, the BNF has a successful history of burning and mowing with the objective of creating a diversity of early-, mid-, and late-seral stages.

The proposed action would broaden the current plant management methods and strategies by:

• Utilizing best available science to develop desired conditions for other select native plant species prior to identifying treatments;

• Treating new infestations through adaptive management tools for assessing new treatments and new sites;

• Treating new and existing invasive species in addition to those listed as noxious weeds by the State of Wyoming;

• Permitting the use of newly developed, more species-specific, EPA-registered herbicides. A Forest Service and state agency cooperator assessment team would be established to review the EPA-issued registration eligibility decision and determine the new herbicide's appropriateness for use on public lands;

• Broadening control methods to include the use of aerial application of herbicides in limited or specific circumstances;

• Broadening protection measures for ground and aerial applications of herbicides; and

• Broadening management methods to meet desired conditions by treating select native plant species to include the use of herbicides.

Possible Alternatives

The Forest Service will consider a reasonable range of alternatives, including a no action alternative. The action alternatives could vary in the amount and location of areas considered for treatment. The BNF may consider the herbicide treatment of select native plant species, such as sagebrush and larkspur, as an alternative separate from invasive species, in order to better differentiate the environmental consequences.

Responsible Official

The Forest Supervisor for the BNF is the Responsible Official.

Nature of Decision To Be Made

Given the purpose and need, the Responsible Official will review the proposed action, the other alternatives (including the `cost or benefit' of the no action alternative), and the environmental consequences in order to determine whether to expand current efforts to control and manage invasive species and select native plant species; what control methods and herbicides would be used; what protection and monitoring measures would be required; and whether to include an adaptive management approach to address future spread of invasive weeds or select native plant species.

National and regional policies and Forest Plan direction require consideration of effects of all projects on invasive plant spread and implementation of preventative measures where practical to limit those effects. In addition, Forest Plan direction requires consideration of achievement of desired conditions for native vegetation and habitats.

Reconsideration of other existing project-level decision or programmatically prescribing protection measures or standards for future forest management activities are beyond the scope of this document.

Preliminary Issues

Issues identified by the Forest Service at this time include the effects of treatments on native vegetation, biological diversity, natural productivity, and habitat structure. Preliminary issues also include effects of herbicides on threatened, endangered, or sensitive species and their habitats; on soils, water, and aquatic resources; and on human health. The public is encouraged to identify additional issues in their comments.

Scoping Process

This notice of intent initiates the scoping process, which guides the development of the EIS. Public participation will be especially important at several points during the analysis, beginning with the scoping process (40 CFR 1501.7). The decision and reasons for the decision will be documented in a Record of Decision. The decision will be subject to Forest Service Project-Level Predecisional Administrative Review Process (Objection Process) (36 CFR part 218, subparts A and B). It is important that reviewers provide their comments at such times and in such manner that they are useful to the agency's preparation of the EIS.

Therefore, comments should be provided prior to the close of the comment period and should clearly articulate the reviewer's concerns and contentions. Comments received in response to this solicitation, including names and addresses of those who comment, will become part of the public record for this proposed action. Comments submitted anonymously will be accepted and considered; however, anonymous comments will not provide the respondent eligibility to participate in subsequent administrative or judicial review.

Allen Rowley,
Associate Deputy Chief, National Forest System.

[FR Doc. 2020-11928 Filed 6-2-20; 8:45 am]

BILLING CODE 3411-15-P